DEPARTMENT OF EDUCATION

34 CFR Chapter III

[Docket ID ED-2016-OSERS-0005; CFDA Number: 84.160C.]

Proposed Priority—Training of Interpreters for Individuals Who Are Deaf or Hard of Hearing and Individuals Who Are Deaf-Blind program

AGENCY: Office of Special Education and Rehabilitative Services, Department of Education.

ACTION: Proposed priority.

SUMMARY: The Assistant Secretary for Special Education and Rehabilitative Services announces a priority under the Training of Interpreters for Individuals Who Are Deaf or Hard of Hearing and Individuals Who Are Deaf-Blind program. The Assistant Secretary may use this priority for competitions in fiscal year 2016 and later years. We take this action to provide training and technical assistance to better prepare novice interpreters to become highly qualified nationally certified sign language interpreters.

DATES: We must receive your comments on or before May 9, 2016.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about these proposed regulations, address them to Kristen Rhinehart-Fernandez, U.S. Department of Education, 400 Maryland Avenue SW., Room 5062, Potomac Center Plaza (PCP), Washington, DC 20202-5076.

Privacy Note: The Department's policy is to make all comments received from members of the public available for public viewing in their entirety on the Federal eRulemaking Portal at www.regulations.gov. Therefore, commenters should be careful to include in their comments only information that they wish to make publicly available.

FOR FURTHER INFORMATION CONTACT: Kristen Rhinehart-Fernandez. Telephone: (202) 245-6103 or by email: Kristen.Rhinehart@ed.gov.

If you use a telecommunications device for the deaf (TDD) or a text telephone (TTY), call the Federal Relay Service (FRS), toll free, at 1-800-877-8339.

SUPPLEMENTARY INFORMATION:

Invitation to Comment: We invite you to submit comments regarding this notice. To ensure that your comments have maximum effect in developing the notice of final priority, we urge you to identify clearly the specific section of the proposed priority that each comment addresses.

We invite you to assist us in complying with the specific requirements of Executive Orders 12866 and 13563 and their overall requirement of reducing regulatory burden that might result from this proposed priority. Please let us know of any further ways we could reduce potential costs or increase potential benefits while preserving the effective and efficient administration of the program.

Specific Issues Open for Comment:

In addition to your general comments and recommended clarifications, we seek input on the proposed design of the Experiential Learning Model Demonstration Center for Novice Interpreters and Baccalaureate Degree ASL-English Interpretation Programs (Center) and expectations for implementation. We are particularly interested in your feedback on the following questions:

• Are the proposed required project activities appropriate? Are there any additional project activities beyond those included in the proposed priority that should be considered? For example, are there any specific activities that may be strongly associated with long-term success for ASL-English interpreters that we have not included? If so, please specify what additional activities should be required and why.

• Under the Training Activities section of the proposed priority, we proposed a team of individuals to work with novice interpreters. Are the proposed roles for interpreter advisors and trained mentors clear and appropriate? Should the roles and responsibilities of the interpreter advisor and mentor be changed or combined? In your experience, how might qualified interpreters work with novice interpreters differently than trained mentors? Should these roles be more or less prescriptive than what we have outlined in the proposed priority?

• In the proposed priority, the Center is expected to plan and design the curriculum, develop training modules, and implement a pilot experiential learning program within the first two years of the grant period. Is this timeline reasonable? If not, what timeline should be required for these expected project deliverables?

• In addition to national certification, such as, for example, the Registry of Interpreters for the Deaf (RID) National Interpreter Certification (NIC) tests, what measures for assessing the improvement in a novice interpreter's skills should be required?

• How many cohorts should be required to complete the experiential learning program within the five-year project period? Should the Department require a certain number of novice interpreters per cohort, and, if so, how many?

• Beyond requiring a logic model and a project evaluation, are there any unique or additional strategies to ensure that the program evaluation framework is infused throughout the planning, designing, and implementation of the experiential learning curriculum that the Department should include? If so, please specify.

During and after the comment period, you may inspect all public comments about this proposed priority by accessing Regulations.gov. You may also inspect the comments in room 5062, 550 12th Street SW., PCP, Washington, DC 20202-5076, between the hours of 8:30 a.m. and 4:00 p.m., Washington, DC time, Monday through Friday of each week except Federal holidays. Please contact the person listed under FOR FURTHER INFORMATION CONTACT.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Under the Rehabilitation Act of 1973 (Rehabilitation Act), as amended by the Workforce Innovation and Opportunity Act (WIOA), the Rehabilitation Services Administration (RSA) makes grants to public and private nonprofit agencies and organizations, including institutions of higher education, to establish interpreter training programs or to provide financial assistance for ongoing interpreter training programs to train a sufficient number of qualified interpreters throughout the country. The grants are designed to train interpreters to effectively interpret and transliterate using spoken, visual, and tactile modes of communication; ensure the maintenance of the interpreting skills of qualified interpreters; and provide opportunities for interpreters to improve their skills in order to meet both the highest standards approved by certifying associations and the communication needs of individuals who are deaf or hard of hearing and individuals who are deaf-blind.

Program Authority: 29 U.S.C. 772(a) and (f).

Applicable Program Regulations: 34 CFR part 396.

Proposed Priority:

This notice contains one proposed priority.

Experiential Learning Model Demonstration Center for Novice Interpreters and Baccalaureate Degree ASL-English Interpretation Programs.

Background:

Over the last 20 years, the fields of interpreting and interpreter training have changed significantly in response to the evolving needs of deaf ¹ children and adults in the United States, which include deaf consumers of the Vocational Rehabilitation (VR) system. The need for interpreting services continues to exceed the available supply of qualified interpreters.

¹ As used in this notice, the word “deaf” refers to (1) `deaf' and `Deaf' people, i.e. to the condition of deafness; (2) to `deaf, hard of hearing, and Deaf-Blind'; and (3) to individuals who are culturally Deaf and who use American Sign Language (ASL). “Deaf” refers only to the third group.

Interpreters must be qualified to work with both individuals with a range of linguistic competencies from a variety of cultural backgrounds and individuals with disabilities. For example, the first language of many deaf individuals is either spoken English or a foreign spoken language, and their second language is ASL. This is, in part, a result of advances in medical treatments, such as an increase in the early detection and intervention of hearing loss in newborns and an increase in the use of cochlear implants. In addition, deaf individuals who have co-occurring disabilities (including co-occurring disabilities that affect speech and language skills, upper extremity motor coordination, and cognition) likely require specialized supports to experience linguistic and communication access to the general environment. Further still, there are an increasing number of deaf individuals from minority and immigrant communities who have unique characteristics related to culture, language, family structure, income and socioeconomic background, and refugee experience, as well as complex and diverse communication needs (Cogen and Cokely). These shifts in how deaf individuals acquire and use language make the task of interpreting more difficult.

In addition, expanding requirements in video relay interpreting and video remote interpreting, the establishment of new “national” standards and credentials for interpreters to work in specific settings (e.g., interpreting in mental health and legal settings), and the development of State-specific licensure, certification, registration, or other requirements (e.g., background and criminal checks to work in certain facilities) all have put a strain on the availability of qualified interpreters.

Finally, interpreters need additional education, training, and experience in order to meet certification standards. For example, in July 2012, a precondition was added for candidates sitting for RID National Interpreter Certification Test requiring them to have, at a minimum, a baccalaureate degree in any field or major, or a demonstrated educational equivalency, before being permitted to take the examination.

In 2014, RID awarded 280 new credentials, and of those, 186 represented the NIC. RID reported an 87 percent pass rate for the knowledge exam but only a 26 percent pass rate for the performance exam. This problem is exacerbated by the length of time between graduating from an ASL-English Interpretation program and achieving national certification. On average, the length of time is 19-24 months (Cogen and Cokely, 2015). This could be longer if a candidate does not initially pass the NIC exam, due to a mandatory six-month waiting period before a candidate is eligible to retest.

Many graduates find work within six months to one year of graduation, but in most cases, these interpreting assignments are too complex and are therefore inappropriate for their skill levels. These situations provide little or no opportunities for support and professional growth. Additional education, training, and experience are needed for novice interpreters to bridge this graduation-to-credential gap and to gain sufficient skills to interpret effectively.

In sum, the pool of qualified interpreters is insufficient to meet the needs of deaf consumers in the United States. To address this problem, the Assistant Secretary proposes a priority to establish a model demonstration center to better prepare novice interpreters to become nationally certified sign language interpreters.

Interpreters must also be able to understand and communicate proficiently using technical vocabulary and highly specialized discourse in a variety of complex subject matters in both English and ASL. Training, even for experienced interpreters, in specialized settings is needed, and for this reason, we are publishing a notice of proposed priority focusing on interpreter training in specialized areas elsewhere in this issue of the Federal Register.

References:

Cogen, Cathy, M.Ed., and Cokely, Dennis, Ph.D., “Preparing Interpreters for Tomorrow: Report on a Study of Emerging Trends in Interpreting and Implications for Interpreter Education” (National Interpreter Education Center at Northeastern University, January 2015). Registry of Interpreters for the Deaf “Fiscal Year 2014 Annual Report” available at www.rid.org/2014-annual-report/#certification

Proposed Priority:

The purpose of this priority is to fund a cooperative agreement for the establishment of a model demonstration center (Center) to: (1) Develop an experiential learning program that could be implemented through baccalaureate degree ASL-English programs or through partner organizations, such as community-based organizations, advocacy organizations, or commissions for the Deaf or deaf-blind that work with baccalaureate degree ASL-English programs to provide work experiences and mentoring; (2) pilot the experiential learning program in three baccalaureate degree ASL-English programs or partner organizations and evaluate the results; and (3) disseminate practices that are promising or supported by evidence, examples, and lessons learned.

The Center must be designed to achieve, at a minimum, the following outcomes:

(a) Increase the number of certified interpreters.

(b) Reduce the average length of time it takes for novice interpreters to become nationally certified after graduating from baccalaureate degree ASL-English interpretation programs; and

(c) Increase the average number of hours that novice interpreters, through the experiential learning program, interact with and learn from the local deaf community.

Project Activities

To meet the requirements of this priority, the Center must, at a minimum, conduct the following activities:

Establish a consortium

(a) The applicant must establish a consortium of training and technical assistance (TA) providers or use an existing network of providers to design and implement a model experiential learning program. An eligible consortium must be comprised of a designated lead entity that operates a baccalaureate degree ASL-English interpretation program that is recognized and accredited by CCIE; and

(b) Members of the consortium must be staffed by or have access to experienced and certified interpreters, interpreter educators, and trained mentors with capability in providing feedback and guidance to novice interpreters, and in serving as language models; and who are geographically dispersed across the country, including the territories, or are able to provide training, TA, and mentoring remotely to broad sections of the country.

Training Activities

(a) In years one and two, design and implement an experiential learning program that is based upon promising and best practices or modules in the preparation of novice interpreters to become certified interpreters. The program design must, at a minimum:

(1) Ensure that all activities are offered at no-cost to participants during the program.

(2) Include a team comprised of native language users, qualified interpreters, and trained mentors to partner with novice interpreters during and after successful completion of the experiential learning program. Roles for team members must include but are not limited to:

(i) Native language users who will serve as language models;

(ii) Qualified interpreters who will act in an advisory role by observing, providing feedback, and discussing the novice interpreter's ability to accurately interpret spoken English into ASL and ASL into spoken English in a variety of situations for a range of consumers; and

(iii) Provide mentoring to novice interpreters, as needed. This may include one-on-one instruction to address specific areas identified by the advisor as needing further practice, as well as offering tools, resources, and guidance to novice interpreters to prepare them for potential challenges they may encounter as they grow and advance in the profession. One-on-one instruction may address, but is not limited to, meaning transfer (e.g., accurately providing an equivalent message and/or appropriately handling register), ethical behavior, meeting the consumer's linguistic preference, managing the flow of information (e.g., pace, density, turn-taking), and other related aspects of the interpreting task.

(3) Provide multiple learning opportunities, such as an internship with a community program, mentoring, and intensive site-specific work. Intensive site-specific work may task a novice interpreter, under close direction from the advisor interpreter, with providing interpreting services to deaf individuals employed at a work site, or to deaf students taking courses at college or enrolled in an apprenticeship program. Other learning modalities may be proposed and must include adequate justification.

(4) Emphasize innovative instructional delivery methods, such as distance learning or block scheduling (i.e., a type of academic scheduling that offers students fewer classes per day for longer periods of time) that would allow novice interpreters to more easily participate in the program (i.e., participants who need to work while in the program, have child care or elder care considerations, or live in geographically isolated areas);

(5) Provide experiential learning that engages novice interpreters with different learning styles;

(6) Provide interpreting experiences with a variety of deaf consumers who have different linguistic and communication needs and preferences, and are located in different settings, including VR settings (e.g., VR counseling, assessments, job-related services, training, pre-employment transition services, transition services, post-employment services, etc.), American Job Centers, and other relevant workforce partner locations;

(7) Require novice interpreters to observe, discuss, and reflect on the work of the advisor interpreter;

(8) Require novice interpreters to interpret in increasingly more complex and demanding situations. The advisor interpreter must provide written and oral feedback that includes strengths and areas of improvement, as well as a discussion with the novice interpreter about interpretation options, ethical behavior, and how best to meet the communication needs of a particular consumer; and

(b) Pilot the experiential learning program in a single site by year two and expand to additional sites beginning in year three. Applicants must:

(1) Identify at least three existing baccalaureate degree ASL-English interpretation programs to serve as the pilot sites. The baccalaureate programs must use a curriculum design that is based upon current best practices in the ASL-English Interpreter Education profession;

(2) Identify cohorts for each pilot site and provide a plan to ensure that at least one cohort is completed in each pilot site prior to the end of the project period. The cohorts must comprise graduates from baccalaureate degree ASL-English interpretation programs who are preparing for, or have not passed, the NIC knowledge and performance exams and who intend to work as interpreters. Applicants may determine the number of cohorts for each pilot site as well as the number of participants in each cohort;

(3) Establish additional criteria for selection in the program. This may include, but is not limited to, submission of an application, relevant assessments, interviews with prospective participants, and recommendations from faculty at baccalaureate degree ASL-English interpretation programs;

(c) Conduct a formative and summative evaluation. At a minimum, this must include:

(1) An assessment of participant outcomes from each cohort that includes, at a minimum, level of knowledge and practical skill levels using pre- and post-assessments; feedback from novice interpreters, from interpreter advisors, including written feedback from observed interpreting situations, from deaf consumers, from trained mentors, including written feedback from mentoring sessions, and from others, as appropriate;

(2) Clear and specific measureable outcomes that include, but are not limited to:

(i) Improvement in specific linguistic competencies, as identified by the applicant, in English and ASL;

(ii) Improvement in specific competencies, as identified by the applicant, in ASL-English interpretation;

(iii) Outcomes in achieving national certification; and

(iv) The length of time for novice interpreters to become nationally certified sign language interpreters after participating in this project compared to the national average of 19-24 months.

Technical Assistance and Dissemination Activities

Conduct TA and dissemination activities that must include:

(a) Preparing and broadly disseminating TA materials related to practices that are promising or supported by evidence and successful strategies for working with novice interpreters;

(b) Establishing and maintaining a state-of-the-art information technology (IT) platform sufficient to support Webinars, teleconferences, video conferences, and other virtual methods of dissemination of information and TA.

Note: All products produced by the Center must meet government- and industry-recognized standards for accessibility, including section 508 of the Rehabilitation Act.

(c) Developing and maintaining a state-of-the-art archiving and dissemination system that—

(1) Provides a central location for later use of TA products, including curricula, audiovisual materials, Webinars, examples of practices that are promising or supported by evidence, and any other relevant TA products; and

(2) Is open and available to the public.

(d) Provides a minimum of two Webinars or video conferences over the course of the project to describe and disseminate information to the field about results, challenges, solutions, and practices that are promising or supported by evidence.

Note: In meeting the requirements for paragraphs (a), (b), and (c) of this section, the Center either may develop new platforms or systems or may modify existing platforms or systems, so long as the requirements of this priority are met.

Coordination Activities

(a) Establish an advisory committee. To effectively implement the Training Activities section of this priority, the applicant must establish an advisory committee that meets at least semi-annually. The advisory committee must include representation from all affected stakeholder groups (i.e., interpreters, interpreter training programs, deaf individuals, and VR agencies) and may include other relevant groups. The advisory committee will advise on the strategies for establishing sites to pilot the experiential learning program, the approaches to the experiential learning program, modifications to experiential learning activities, TA, sustainability planning, evaluating the effectiveness of the program, as well as other relevant areas as determined by the consortium.

(b) Establish one or more communities of practice ² that focus on project activities in this priority and that act as vehicles for communication and exchange of information among participants in the experiential learning program, as well as other relevant stakeholders;

² A community of practice (CoP) is a group of people who work together to solve a persistent problem or to improve practice in an area that is important to them and who deepen their knowledge and expertise by interacting on an ongoing basis. CoPs exist in many forms, some large in scale that deal with complex problems, others small in scale that focus on a problem at a very specific level. For more information on communities of practice, see: www.tadnet.org/pages/510.

(c) Communicate, collaborate, and coordinate, on an ongoing basis, with other relevant Department-funded projects, as applicable; and

(d) Maintain ongoing communication with the RSA project officer and other RSA staff as required.

Application Requirements

To be funded under this priority, applicants must meet the application requirements in this priority. RSA encourages innovative approaches to meet the following requirements:

(a) Demonstrate, in the narrative section of the application under “Significance of the Project,” how the proposed project will address the need for nationally certified sign language interpreters. To meet this requirement, the applicant must:

(1) Demonstrate knowledge of English/ASL competencies that novice interpreters must possess in order to enter and to complete an experiential learning program and, at the end of the program, to successfully obtain national certification;

(2) Demonstrate knowledge of practices that are promising or supported by evidence in training novice interpreters; and

(3) Demonstrate knowledge of practices that are promising or supported by evidence in providing experiential learning.

(b) Demonstrate, in the narrative section of the application under “Quality of Project Services,” how the proposed project will—

(1) Ensure equal access and treatment for members of groups that have historically been underrepresented based on race, color, national origin, gender, age, or disability in accessing postsecondary education and training.

(2) Identify the needs of intended recipients of training; and

(3) Ensure that project activities and products meet the needs of the intended recipients by creating materials in formats and languages that are accessible;

(4) Achieve its goals, objectives, and intended outcomes. To meet this requirement, the applicant must identify and provide—

(i) Measurable intended project outcomes;

(ii) Evidence of an existing Memorandum of Understanding or a Letter of Intent between the Center and proposed training and TA providers to establish a consortium that includes a description of each proposed partner's anticipated commitment of financial or in-kind resources (if any), how each proposed provider's current and proposed activities align with those of the proposed project, how each proposed provider will be held accountable under the proposed structure, and evidence to demonstrate a working relationship between the applicant and its proposed partners and key stakeholders and other relevant groups; and

(iii) A plan for communicating, collaborating, and coordinating with an advisory committee; key staff in State VR agencies, such as State Coordinators for the Deaf; State and local partner programs; Registry of Interpreters for the Deaf, Inc.; RSA partners, such as the Council of State Administrators of Vocational Rehabilitation, the National Council of State Agencies for the Blind; and relevant programs within the Office of Special Education and Rehabilitative Services (OSERS).

(3) Use a conceptual framework to design experiential learning activities, describing any underlying concepts, assumptions, expectations, beliefs, or theories, as well as the presumed relationships or linkages among these variables and any empirical support for this framework.

(4) Be based on current research and make use of practices that are promising or supported by evidence. To meet this requirement, the applicant must describe—

(i) How the current research about adult learning principles and implementation science will inform the proposed TA; and

(ii) How the proposed project will incorporate current research and practices that are promising or supported by evidence in the development and delivery of its products and services.

(5) Develop products and provide services that are of high quality and sufficient intensity and duration to achieve the intended outcomes of the proposed project. To address this requirement, the applicant must describe its proposed activities to identify or develop the knowledge base for practices that are promising or supported by evidence in experiential learning for novice interpreters;

(6) Develop products and implement services to maximize the project's efficiency. To address this requirement, the applicant must describe—

(i) How the proposed project will use technology to achieve the intended project outcomes; and

(ii) With whom the proposed project will collaborate and the intended outcomes of this collaboration.

(c) In the narrative section of the application under “Quality of the Evaluation Plan,” include an evaluation plan for the project. To address this requirement, the applicant must describe—

(1) Evaluation methodologies, including instruments, data collection methods, and analyses that will be used to evaluate the project;

(2) Measures of progress in implementation, including the extent to which the project's activities and products have reached their target populations; intended outcomes or results of the project's activities in order to evaluate those activities; and how well the goals and objectives of the proposed project, as described in its logic model,³ have been met;

³ A logic model communicates how the project will achieve its intended outcomes and provides a framework for both the formative and summative evaluations of the project.

(3) How the evaluation plan will be implemented and revised, as needed, during the project. The applicant must designate at least one individual with sufficient dedicated time, experience in evaluation, and knowledge of the project to support the design and implementation of the evaluation. Tasks may include, but are not limited to, coordinating with the advisory committee and RSA to revise the logic model to provide for a more comprehensive measurement of implementation and outcomes, to reflect any changes or clarifications to the logic model discussed at the kick-off meeting, and to revise the evaluation design and instrumentation proposed in the grant application consistent with the logic model (e.g., developing quantitative or qualitative data collections that permit both the collection of progress data and the assessment of project outcomes);

(4) The standards and targets for determining effectiveness;

(5) How evaluation results will be used to examine the effectiveness of implementation and progress toward achieving the intended outcomes; and

(6) How the methods of evaluation will produce quantitative and qualitative data that demonstrate whether the project activities achieved their intended outcomes.

(d) Demonstrate, in the narrative section of the application under “Adequacy of Project Resources,” how—

(1) The proposed project will encourage applications for employment from persons who are members of groups that have historically been underrepresented based on race, color, national origin, gender, age, or disability, as appropriate;

(2) The proposed key project personnel, consultants, and subcontractors have the qualifications and experience to provide experiential learning to novice interpreters and to achieve the project's intended outcomes;

(3) The applicant and any key partners have adequate resources to carry out the proposed activities; and

(4) The proposed costs are reasonable in relation to the anticipated results and benefits;

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, including the advisory committee, as well as other relevant groups in its development and operation.

(f) Address the following application requirements. The applicant must—

(1) Include, in Appendix A, a logic model that depicts, at a minimum, the goals, activities, outputs, and intended outcomes of the proposed project;

(2) Include, in Appendix A, a Memorandum of Understanding or a Letter of Intent between the Center and the proposed training and TA providers;

(3) Include, in Appendix A, a conceptual framework for the project;

(4) Include, in Appendix A, person-loading charts and timelines as applicable, to illustrate the management plan described in the narrative;

(5) Include, in the budget, attendance at the following:

(i) A one and one-half day kick-off meeting in Washington, DC, after receipt of the award;

(ii) An annual planning meeting in Washington, DC, with the RSA project officer and other relevant RSA staff during each subsequent year of the project period; and

(iii) A one-day intensive review meeting in Washington, DC, during the third quarter of the third year of the project period.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: the public understands the Department's collection instructions, respondents can provide the requested data in the desired format, reporting burden (time and financial resources) is minimized, collection instruments are clearly understood, and the Department can properly assess the impact of collection requirements on respondents.

These proposed priorities contain information collection requirements that are approved by OMB under the National Interpreter Education program 1820-0018; this proposed regulation does not affect the currently approved data collection.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that would maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Through this priority, experiential learning and TA will be provided to novice interpreters in order for them to achieve national certification. These activities will help interpreters to more effectively meet the communication needs of individuals who are deaf or hard of hearing and individuals who are Deaf-Blind. The training ultimately will improve the quality of VR services and the competitive integrated employment outcomes achieved by individuals with disabilities. This priority would promote the efficient and effective use of Federal funds.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site, you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 1, 2016.
Michael K. Yudin,
Assistant Secretary for Special Education and Rehabilitative Services.

[FR Doc. 2016-07933 Filed 4-6-16; 8:45 am]

BILLING CODE 4000-01-P